DEPARTMENT OF TRANSPORTATION

Federal Highway Administration

Agency Information Collection Activities: Submission for OMB Review

AGENCY: Federal Highway Administration (FHWA), DOT.

ACTION: Notice.

SUMMARY: The FHWA has forwarded the information collection request described in this notice to the Office of Management and Budget (OMB) for review and comment. We published a Federal Register Notice with a 60-day public comment period on this information collection on October 21, 2004 (69 FR 61901). We are required to publish this notice in the Federal Register by the Paperwork Reduction Act of 1995.

DATES: Please submit comments by September 8, 2005.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information.

FOR FURTHER INFORMATION CONTACT: Mr. Reginald Bessmer, (202) 366-2037, Office of Real Estate Services, Federal Highway Administration, Department of Transportation, 400 Seventh Street, SW., Washington, DC 20590. Office hours are from 7:30 a.m. to 5 p.m., Monday through Friday, except Federal holidays.

SUPPLEMENTARY INFORMATION: Title: Evaluate the Effects of Appraisal Waivers.

Abstract: The Uniform Relocation Assistance and Real Property Acquisition Policies Act of 1970, as amended (URA), provides that “real property shall be appraised before the initiation of negotiations, and that the owner, or the owner's designated representative shall be given an opportunity to accompany the appraiser during the appraiser's inspection of the property, except that the head of the lead agency may prescribe a procedure to waive the appraisal in cases involving the acquisition by sale or donation of property with a low fair market value.” The appraisal waiver policy is based on the premise that administrative costs, particularly appraisal costs, should not be a high proportion, or exceed the value of the actual real property to be acquired. The procedure to waive the appraisal is specified in 49 CFR 24.102(c) and allows agencies acquiring real property to “* * * determine that an appraisal is unnecessary because the valuation problem is uncomplicated and the fair market value is estimated at $2,500 or less, based on a review of available data.” The FHWA has previously expanded this policy by issuing a rule on January 4, 2005 that revised 49 CFR part 24, to allow the State Departments of Transportation, to establish an appraisal waiver threshold to a maximum of $10,000 and with an approval from the Federal agency increase the threshold up to a maximum of $25,000 provided certain conditions were applied. Prior to issuing the revised rule the FHWA had already expanded the appraisal waiver threshold through 49 CFR 24.7, Federal agency waiver of regulations, to allow State Departments of Transportation to request an increase in the threshold. Therefore, the FHWA will conduct a survey to determine the effectiveness and impact of its appraisal waiver policy on the acquisition of real property. The survey will assess whether the use of appraisal waivers is successful in: (1) Securing agreements with owners, (2) reducing the necessity for litigation (eminent domain), (3) providing for consistent treatment of owners, and (4) maintaining public confidence in Federal land acquisition practices. Also, the FHWA will seek to determine whether there are any impacts on the State DOTs' operations from the use of the FHWA's appraisal waiver procedures. The information will be evaluated and “best practices” will be identified. The information will be shared with agencies operating under URA for their use in developing and enhancing effective use of their appraisal waiver policies.

Respondents: 50 State Departments of Transportation, the District of Columbia and Puerto Rico (Right-of-Way Department).

Frequency: This one-time survey will be conducted in two parts.

Estimated Total Annual Burden Hours: The goal of part one is to obtain information from the 52 agencies indicated above. In order to clarify and expand on gathered information, the goal of part two is to conduct follow-up interviews with approximately 15 agencies. The estimated average burden for the initial survey is 3 hours per respondent. The follow-up interviews will require on average 1 hour to complete. The estimated total burden for this one time study is 171 hours.

Authority: The Paperwork Reduction Act of 1995; 44 U.S.C. Chapter 35, as amended; and 49 CFR 1.48.

Issued on: August 3, 2005.
James R. Kabel,
Chief, Management Programs and Analysis Division.

[FR Doc. 05-15690 Filed 8-8-05; 8:45 am]

BILLING CODE 4910-22-P